DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 5812, dated January 28, 2013) is amended to reflect the reorganization of the Office for State, Tribal, Local, and Territorial Support.

Section C-B, Organization and Functions, is hereby amended as follows:

Delete in its entirety the title and function statements for the Knowledge Management Office (CQA5), Office of the Director (CQA).

Revise the functional statement for the Public Health Law Office (CQA2), Office of the Director (CQA) as follows:

After item (8), insert the following: (9) establish collaboration and coordination between clinical medicine and public health to better coordinate and partner for healthier communities.

Dated: March 22, 2013.
Sherri A. Berger,
Chief Operating Officer, Centers for Disease Control and Prevention.

[FR Doc. 2013-07582 Filed 4-1-13; 8:45 am]

BILLING CODE 4160-18-M